ENVIRONMENTAL PROTECTION AGENCY

40 CFR Part 52

[CA 252-312b; FRL-7118-2]

Revisions to the California State Implementation Plan, Mojave Desert Air Quality Management District (MDAQMD)

AGENCY: Environmental Protection Agency (EPA).

ACTION: Proposed rule.

SUMMARY: EPA is proposing to approve revisions to the Mojave Desert Air Quality Management District portion of the California State Implementation Plan (SIP). These revisions concern oxides of nitrogen (NOX) emissions from cement kilns. We are proposing to approve the local rule to regulate these emission sources under the Clean Air Act as amended in 1990.

DATES: Any comments on this proposal must arrive by February 1, 2002.

ADDRESSES: Mail comments to Andy Steckel, Rulemaking Office Chief (AIR-4), U.S. Environmental Protection Agency, Region IX, 75 Hawthorne Street, San Francisco, CA 94105-3901.

You can inspect copies of the submitted SIP revisions and EPA's technical support document (TSD) at our Region IX office during normal business hours. You may also see copies of the submitted SIP revisions at the following locations: California Air Resources Board, Stationary Source Division, Rule Evaluation Section, 2020 “L” Street, Sacramento, CA 95812. Mojave Desert AQMD, 14306 Park Avenue, Victorville, CA 92392-2310

FOR FURTHER INFORMATION CONTACT: Charnjit Bhullar, Rulemaking Office (Air-4), U.S. Environmental Protection Agency, Region IX, (415) 972-3960.

SUPPLEMENTARY INFORMATION: This proposal addresses the local rule: MDAQMD Rule 1161. In the Rules and Regulations section of this Federal Register, we are approving this local rule in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: November 29, 2001.
Laura Yoshii,
Deputy Regional Administrator, Region IX.

[FR Doc. 01-32100 Filed 12-31-01; 8:45 am]

BILLING CODE 6560-50-P